DEPARTMENT OF LABOR

Bureau of Labor Statistics

Data Users Advisory Committee; Notice of Meeting and Agenda

The Bureau of Labor Statistics Data Users Advisory Committee will meet on Friday, May 19, 2017. The meeting will be held in the Postal Square Building, 2 Massachusetts Avenue NE., Washington, DC.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The meeting will be held in Meeting Rooms 1, 2, and 3 of the Janet Norwood Conference and Training Center. The schedule and agenda for the meeting are as follows:

8:30 a.m. Registration

9:00 a.m. Commissioner's welcome and review of agency developments

9:45 a.m. Office of Field Operations data user conferences

10:30 a.m. The next generation of BLS news releases

11:30 a.m. Publishing BLS response rates

1:15 p.m. Update on BLS communications efforts

2:15 p.m. Productivity 101: feedback on the BLS productivity user's guide

3:30 p.m. Communicating the results of the new separations method for Occupational Employment Projections

4:30 p.m. Meeting wrap-up

The meeting is open to the public. Any questions concerning the meeting should be directed to Kathy Mele, Data Users Advisory Committee, on 202.691.6102. Individuals who require special accommodations should contact Ms. Mele at least two days prior to the meeting date.

Signed at Washington, DC, this 20th day of March 2017.
Kimberley D. Hill
Chief, Division of Management Systems, Bureau of Labor Statistics.

[FR Doc. 2017-06345 Filed 3-30-17; 8:45 am]

BILLING CODE 4510-24-P